DEPARTMENT OF THE INTERIOR

National Park Service

[N6867; NPS-WASO-NAGPRA-NPS0041855; PPWOCRADN0-PCU00RP14.R50000]

Notice of Intended Repatriation: Berkshire Museum, Pittsfield, MA

AGENCY: National Park Service, Interior.

ACTION: Notice.

SUMMARY: In accordance with the Native American Graves Protection and Repatriation Act (NAGPRA), the Berkshire Museum intends to repatriate certain cultural items that meet the definition of unassociated funerary objects, sacred objects, and/or objects of cultural patrimony and that have a cultural affiliation with the Indian Tribes or Native Hawaiian organizations in this notice.

DATES: Repatriation of the cultural items in this notice may occur on or after February 17, 2026.

ADDRESSES: Send additional, written requests for repatriation of the cultural items in this notice to Jason Vivori, Berkshire Museum, 39 South Street, Pittsfield, MA 01201, email jvivori@berkshiremuseum.org.

SUPPLEMENTARY INFORMATION: This notice is published as part of the National Park Service's administrative responsibilities under NAGPRA. The determinations in this notice are the sole responsibility of the Berkshire Museum, and additional information on the determinations in this notice, including the results of consultation, can be found in the summary or related records. The National Park Service is not responsible for the determinations in this notice.

Abstract of Information Available

The 50 sacred objects/objects of cultural patrimony are four Kūpe'e Niho 'Ilio (Dog Tooth Leg Ornaments), five 'I'e Kūkū (Kapa Beaters), 21 Kapa (Bark Cloths), one 'Umeke (Wood Bowls in 3 Large Pieces), three Moena (Mats), one 'Ohe Kāpala (Kapa Stamp), two Hale (House) Models of Thatched House, one 'A'a (Lava sample in fragments—Large Grey Piece, with five Small Black Glassy Pieces), one Pūniu (Knee Drum), one Puke Kapa (Kapa Book) Square Book Bound in Folded Pieces of Kapa Cloth, one Ipu Pawehe (Decorated Water Gourd), one Pōhaku Ku'i 'Ai (Stone Food Pounder), one Wa'a (Model Canoe), one 'Umeke (Gourd Calabash), two Nā Hulu (Feathers—Brown Fragments from a cape of Kamehameha, as well as Red, Yellow, and Black feather fragments from a bundle, including Olonā), three Pāpale (Hats) and one Kapa Dress.

Five items (1906.7.2,6a,6b,6c,18) were transferred to the Berkshire Museum in 1906 from the Berkshire Athenaeum collection, having been gifted to the Athenaeum in the 1870s from the collections of several missionaries. Of note, 1906.7.18, a kapa fragment given by JEA Smith in 1871, is missing. However, it may be one of several Found in Collection objects listed here. Additionally, C1988.7, a kapa tablecloth from the collection of Mercy Patridge Whitney that was noted to be in poor condition in a conservation report in 1989, is also missing. Three Kapa cloths (1931.81.9,18,19) were given in 1931 by Mrs. George B. Kirkbride, as part of a collection of twenty Polynesian objects. Four items were given in 1932 (1932.41.1-3,5) by Mrs. Dwight M. Collins of Pittsfield. This includes a Kapa cloth (1932.41.1), two Moena Mats (1932.41.3,5), and an Umeke Bowl (1932.41.2). One Kapa cloth (1967.18) was given by Mr. Edwin. E. Wood of Pittsfield. It was a given to Mrs. Florence Wood in 1937 by her brother John Foster Wood. Six items were given by Janice Greer in 1990 as part of a donation of ten items from Dr. Charles H. Wetmore collection. Upon his arrival in 1849, Wetmore served as a health officer for the Hawaiian Kingdom's Board of Health and oversaw the United States Hospital for Seamen. All remaining items have been listed as Found in Collection. The museum lacks sufficient documentation regarding the acquisition of these items to establish right of ownership or to establish lineal descent.

Determinations

The Berkshire Museum has determined that:

• The 50 sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a connection between the cultural items described in this notice and Hui Iwi Kuamo'o.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 17, 2026. If competing requests for repatriation are received, the Berkshire Museum must determine the most appropriate requestor prior to repatriation. Requests for joint repatriation of the cultural items are considered a single request and not competing requests. The Berkshire Museum is responsible for sending a copy of this notice to the Indian Tribes and Native Hawaiian organizations identified in this notice and to any other consulting parties.

Authority: Native American Graves Protection and Repatriation Act, 25 U.S.C. 3004 and the implementing regulations, 43 CFR 10.9.

Dated: January 9, 2026.
Melanie O'Brien,
Manager, National NAGPRA Program.

[FR Doc. 2026-00857 Filed 1-15-26; 8:45 am]

BILLING CODE 4312-52-P